NUCLEAR REGULATORY COMMISSION

[Docket No. 040-08903; NRC-2019-0186]

Homestake Mining Company of California; Grants Reclamation Project

AGENCY: Nuclear Regulatory Commission.

ACTION: Environmental assessment and finding of no significant impact; issuance.

SUMMARY: The U.S. Nuclear Regulatory Commission (NRC) is issuing an environmental assessment (EA) and a finding of no significant impact (FONSI) regarding a request from Homestake Mining Company (HMC) of California for approval of an amendment to HMC Radioactive Materials License SUA-1471 to add zeolite water treatment systems. HMC is authorized to manage a groundwater restoration program to restore the concentrations of the constituents of concern to the acceptable groundwater standards at its Grants Reclamation Project site in Milan, New Mexico, under NRC License SUA-1471, issued originally in 1988.

DATES: The EA referenced in this document is available on December 10, 2019.

ADDRESSES: Please refer to Docket ID NRC-2019-0186 when contacting the NRC about the availability of information regarding this document. You may obtain publicly-available information related to this document using any of the following methods:

• Federal Rulemaking website: Go to https://www.regulations.gov and search for Docket ID NRC-2019-0186. Address questions about NRC dockets IDs in Regulations.gov to Jennifer Borges; telephone: 301-287-9127; email: Jennifer.Borges@nrc.gov. For technical questions, contact the individual listed in the FOR FURTHER INFORMATION CONTACT section of this document.

• NRC's Agencywide Documents Access and Management System (ADAMS): You may obtain publicly-available documents online in the ADAMS Public Documents collection at https://www.nrc.gov/reading-rm/adams.html. To begin the search, select “Begin Web-based ADAMS Search.” For problems with ADAMS, please contact the NRC's Public Document Room (PDR) reference staff at 1-800-397-4209, 301-415-4737, or by email to pdr.resource@nrc.gov. The ADAMS accession number for each document referenced (if it is available in ADAMS) is provided the first time that it is mentioned in this document.

• NRC's PDR: You may examine and purchase copies of public documents at the NRC's PDR, Room O1-F21, One White Flint North, 11555 Rockville Pike, Rockville, Maryland 20852.

FOR FURTHER INFORMATION CONTACT: Jean Trefethen, Office of Nuclear Material Safety and Safeguards, U.S. Nuclear Regulatory Commission, Washington, DC 20555-0001; telephone: 301-415-0867, email: Jean.Trefethen@nrc.gov.

SUPPLEMENTARY INFORMATION:

I. Introduction

By letter dated December 11, 2017 (ADAMS Package Accession No. ML17361A006), Homestake Mining Company of California (HMC or the licensee) requested NRC approval of HMC's license amendment to modify its License No. SUA-1471, Condition 35. The request includes the addition of a zeolite water treatment system for the removal of low levels of uranium from contaminated groundwater as part of the approved groundwater corrective action program (CAP) at the Grants Reclamation Projects site. The CAP is authorized under NRC License No. SUA-1471, Condition 35.C and is implemented using an adaptive, ongoing strategy that includes monitoring, water management, water treatment, and source control. The Grants Reclamation Project site is located near Milan, New Mexico and is owned and operated by HMC. The NRC staff has prepared an EA (ADAMS Accession No. ML19263C623) as part of its review of this proposed action in accordance with the requirements in part 51 of title 10 of the Code of Federal Regulations (10 CFR), “Environmental Protection Regulations for Domestic Licensing and Related Regulatory Functions” and associated staff guidance. The NRC has concluded that the proposed action will not have a significant effect on the quality of the human environment.

II. Summary of the Environmental Assessment

Description of the Proposed Action

The proposed action is to review and approve the request for modification of the CAP by amending License No. SUA-1471, Condition 35, to add the 300 gpm and 1200 gpm zeolite water treatment systems to increase the water treatment capacity. Pilot testing of the zeolite water treatment systems was performed by the licensee to verify the effectiveness of the treatment system in order to accelerate the groundwater restoration. As part of the pilot test, the 300 gpm and 1200 gpm zeolite treatment systems were installed and are currently in use.

Need for the Proposed Action

By letter dated December 11, 2017, the licensee notified the NRC of its proposal to formally add zeolite groundwater treatment systems to its CAP. Expanded groundwater treatment capacity is needed to accelerate groundwater restoration at the Grants site. Use of the zeolite water treatment system, in addition to reverse osmosis, will allow HMC to meet its NRC-mandated water remediation goals.

Environmental Impacts of the Proposed Action

The NRC staff evaluated the potential environmental impacts associated with the proposed action and has performed its environmental review in accordance with the requirements in 10 CFR part 51 and associated staff guidance. As detailed in the EA, the staff reviewed relevant information submitted by the licensee and consulted with the New Mexico State Historic Preservation Office (NMSHPO), the Hopi of Arizona, Navajo Nation, Pueblo of Acoma, Pueblo of Isleta, Pueblo of Laguna, and Pueblo of Zuni. The NRC staff, with the assistance of the U.S. Fish and Wildlife Service (USFWS) Information for Planning and Consultation (IPaC) project planning tool, determined that the listed species and/or critical habitat would not be adversely affected by the proposed action. Additionally, a draft EA was shared with New Mexico Environment Department (NMED).

During the pilot study, HMC constructed the 300 gpm and 1200 gpm zeolite systems in a previously and highly disturbed area within the licensed site boundary, and no further activities involving land disturbance are planned. Therefore, the NRC staff considers that there would be no impacts on the following resources areas: land use, geology and soils, water resources, ecology, meteorology, climate, air quality, noise, transportation, waste management, visual and scenic resources, and socioeconomic resources.

The NRC staff evaluated the radiological impacts on workers and the public. The staff found that the radiological doses to workers would be within the dose limits specified in 10 CFR 20.1201, “Occupational dose limits to adults,” and that radiological doses to the public would be indistinguishable when compared to background radiation.

The NRC staff also evaluated the cumulative impacts by identifying past, present, and reasonably foreseeable future actions at the Grants site, and the incremental impacts of HMC's proposed action. The staff determined that the proposed action would not significantly contribute to cumulative impacts. The staff also determined that the proposed action would not affect federally listed endangered or threatened species or their critical habitats, if present.

Environmental Impacts of the Alternatives to the Proposed Action

The NRC staff considered a no-action alternative for this EA. Under the no-action alternative, the NRC staff could deny HMC's request to add the zeolite water system at its Grants site. However, because HMC is using the zeolite system under a pilot test, the NRC considers the environmental impacts of this alternative to be similar to those of the proposed action. Therefore, staff concluded that denying the addition of the zeolite systems to HMC's license is not a reasonable alternative.

Agencies and Persons Consulted

In August 2018, the NRC staff accessed the USFWS IPaC online project planning tool and determined that, while there was potential for some threatened or endangered species to be present in the general area, there is no critical habitat at the project location. Therefore, the NRC has determined that no further consultation with the USFWS is required under Section 7 of the Endangered Species Act. By letter dated October 31, 2018 (ADAMS Package Accession No. ML18267A257), the staff consulted with the New Mexico Department of Game and Fish (NMDGF) and asked them to concur with the determination that the proposed action was not the type to affect threatened or endangered species or their critical habitats, assuming they were present. The NMDGF replied by letter dated December 3, 2018 and indicated that, in 2016, a dozen migratory bird fatalities occurred at one of the evaporation ponds on the Grants site. As a follow-up to their response the NRC staff called the NMDGF to clarify that the pond in question is not part of the current licensing action and that the NRC would on their recommendation contact the USFWS. In March 2019, the NRC spoke with the USFWS to better understand whether their concerns extended to threatened and endangered species. During that call, the USFWS indicated that in 2016 they contacted HMC and provided suggestions for preventing migratory bird deaths. The contact at USFWS Region 2 is unaware of additional migratory bird deaths or whether threatened or endangered species were included among the dead birds at the Grants site.

Section 106 of the National Historic Preservation Act of 1966, as amended, requires federal agencies to consider the effects of their undertakings on historic properties. The NRC's approval of this license amendment request constitutes a federal undertaking. However, the NRC staff has determined that the scope of activities described in this license amendment request do not have the potential to cause effects on historic properties, assuming those were present, because the NRC's approval of this license request will not result in construction or land disturbance activities.

The NRC staff also consulted with the NMSHPO by letter dated September 21, 2018 (ADAMS Accession No. ML18232A151). The NMSHPO responded by email dated October 16, 2018, stating that they agreed with a finding of no adverse effect for the proposed action and also recommended by letter dated November 13, 2018, that the NRC consult six Tribes: Hopi of Arizona, Navajo Nation, Pueblo of Acoma, Pueblo of Isleta, Pueblo of Laguna, and Pueblo of Zuni (ADAMS Package Accession No. ML18233A143). By letter dated November 13, 2018, the NRC sent a consultation letter to the six Tribes explaining the activities involved in the proposed action and the preliminary determination of no potential to effect historic properties, assuming they were present.

In July 2019, the NRC provided the NMED with the opportunity to review the draft EA (ADAMS Accession No. ML19196A071) and requested NMED input. On August 12, 2019 the NMED responded by email (ADAMS Accession No. ML19225B308) that they had reviewed the draft EA with one comment and no other concerns with the NRC's EA findings. The NRC addressed NMED's comment in the final EA (ADAMS Accession Number ML19263C623).

III. Finding of No Significant Impact

In accordance with the requirements in 10 CFR part 51, the NRC staff has concluded that the proposed action will not significantly affect the quality of the human environment. Therefore, the staff finds, pursuant to 10 CFR 51.31, that preparation of an environmental impact statement is not required for the proposed action, and that a FONSI is appropriate.

Dated at Rockville, Maryland, this 4th day of December 2019.
For the Nuclear Regulatory Commission.
Cinthya I. Roman-Cuevas,
Chief, Environmental Review Materials Branch Division of Fuel Cycle Safety, Safeguards, and Environmental Review Office of Nuclear Material Safety, and Safeguards.

[FR Doc. 2019-26493 Filed 12-9-19; 8:45 am]

BILLING CODE 7590-01-P